DEPARTMENT OF DEFENSE

Department of the Navy

Notice of Performance Review Board Membership

AGENCY: Department of the Navy, DoD.

ACTION: Notice.

SUMMARY: Pursuant to 5 U.S.C. 4314(c)(4), the Department of the Navy (DON) announces the appointment of members to the DON's numerous Senior Executive Service (SES) Sub Pay Pools (SPPs)/Performance Review Boards (PRBs). The purpose of the SPP/PRBs is to provide fair and impartial review of the annual SES performance appraisal prepared by the senior executive's immediate and second level supervisor; to make recommendations to appointing officials regarding acceptance or modification of the performance rating; and to make recommendations for performance bonuses and basic pay increases. Composition of the specific SPP/PRBs will be determined on an ad hoc basis from among individuals listed below:

ADAMS, P. C. MS.; ALLARD, T. DR; ARCHITZEL, D. RADM; ARNY, L. W. MR.; BALDERSON, D. MS.; BALDERSON, W. M. MR.; BARBER, A. H. MR.; BARNUM, H. C. MR.; BAUMAN, D. M. MR.; BELAND, R. W. DR.; BENEDICT, T. J. RDML; BETRO, T. A. MR.; BILLINGSLEA, M. MR.; BLAIR, A. K. MS.; BLINCOE, R. J. MR.; BOURBEAU, S. J. MS.; BOZIN, S. D. RADM; BRADY, P. H. RDML; BRANCH, E. B. MR.; BRAY, W. P. MR.; BRENNAN, A. M. MS.; BROOK, D. DR; BROTHERTON, A. E. MS.; BROWN, M. RDML; BROWN, W. A. RDML; CALI, R. T. MR.; CAMPBELL, J. F. RADM; CAREY, R. J. MR.; CARLIN, R. T. DR.; CARR, N. RDML; CASTELLAW, J. LTGEN; COHN, H. A. MR.; COLEMAN, R. LTGEN; COOK, C. E. MR.; COOLEY, K. MR.; COVELL, C. RDML; COX, A. D. MR.; CREEDON, C. MR.; CWALINA, B. B. MR.; DAVENPORT, D. RADM; DAVIS, A. R. MS.; DAVIS, L. C. DR.; DEBBINK, D. VADM; DECKER, J. MS.; DECKER, M. H. MR.; DEITCHMAN, M. MR.; DELIGNE, W. J. MR.; DEUTSCH, K. RADM; DILLON, B. MR.; DRISKO, M. MS.; DUNAWAY, D. RDML; DUNN, S. C. MR.; EASTBURG, S. RDML; ECCLES, T. RDML; EHRLER, S. M. MR.; ELLIS, W. G. MR.; ENEWOLD, G. RADM; ESSIG, P. CAPT; ETTER, D. M., THE HONORABLE; EVANS, G. L. MS.; and

EVANS, I. E. MS.; EVANS, J. J. MR.; EXLEY, R. L. MR.; FERGUSON, J. F. MR.; FERGUSON, M. VADM; FERKO, J. G. MR.; FISCHER, J. W. DR.; FITZGERALD, M. VADM; FLYNN, T. V. RDML; FRANKFURT, T. MR.; FRANTZ, G. T. MR.; FRICK, M. S. RDML; GAHAGAN, D. CAPT.; GALGANO, M. MR.; GALLOWAY, J. MR.; GARCIA, J. G. MR.; GAVIN, V. S. MR.; GIBBS, R. C. MR.; GLAS, R. MR.; GODDARD, C. H. RDML; GONZALEZ, A. H. MR.; GOODHART, J. C. MR.; GORDON, F. E. DR.; GRIFFES, M. D. MR.; GRIFFIN, R. MR.; GROSKLAGS, P. RDML; GUARD, H. MR.; HAMILTON, C. RADM; HANEY, C. RADM; HANNAH, B. W. DR.; HARNED, N. MS.; HARRELL, M. MS.; HARVEY, J. C. VADM; HAYNES, R. S. MR.; HEELY, T. RADM; HERR, F. DR.; HILARIDES, W. H. RDML; HOGUE, R. D. MR.; HOLLOWAY, D. RADM; HONECKER, M. W. MR.; HOWARD, J. S. MR.; ISELIN, S. MR.; JAGGARD, M. F. MR.; JAMES, J. H. MR.; JIMENEZ, F., THE HONORABLE; JOHNSON, J. L. MR.; JOHNSON, S. RADM; JONES, W. DR; JUNKER, B. R. DR.; KARLE, I. DR.; KASKIN, J. D. MR.; KAY, W. MS.; KEEN, S. L. MS.; KEENEY, C. MS.; KISTLER, M. R. MR.; KLEINTOP, M. U. MS.; KRAMLICH, R. S. LTGEN; KRASIK, S. A. MS.; KRUM, R. A. MR.; KUNESH, N. J. MR.; and

LAKE, R. BGEN; LANDAU, S. P. MR.; LANDAY, W. E. RADM; LAUX, T. E. MR.; LAWRENCE, J. P. DR.; LEACH, R. A. MR.; LEDVINA, T. N. MR.; LEFEBVRE, P. MR.; LEGGIERI, S. R. MS.; LEIKACH, K. MR.; LOCKLEAR, S. J. VADM; LOFTUS, J. V. MS.; LONG, L. MS.; LUCCHINO, C. MS.; LUNDBERG, D. A. MR.; LUNNEY, J. E. MR.; LUTTERLOH, S. MR.; MAGLICH, M. F. MR.; MAGNUS, R. LTGEN; MAGUIRE, M. M. MS.; MARSHALL, J. B. MR.; MASCIARELLI, J. R. MR.; MCCARTHY, E. MS.; MCCARTHY, J. MR.; MCCORMACK, JR., D. F. MR.; MCCOY, K. M. RDML; MCCURDY, J. MR.; MCGRATH, M. F. MR.; MCLAUGHLIN, P. M. MR.; MCMAHON, M. RDML; MCMANAMON, J. P. RDML; MCNAIR, J. W. MR.; MEADOWS, L. J. MS.; MEEKS JR., A. W. DR.; MENG, J. C. DR; MILLER, C. A. MR.; MITCHELL, S. E. MR.; MOLZAHN, W. R. MR.; MONTGOMERY, J. A. DR.; MURRAY, S. MS.; MUTH, C. C. MS.; NAVAS JR., W. A., THE HONORABLE; NYALKO, L. J. MS.; O'NEIL, S. M. MR.; PAOLETTI, C. MR.; PENN, B. J., THE HONORABLE; PERSONS, B. J. MR.; PIC, J. E. MR.; PIVIROTTO, R. R. MR.; PLUNKETT, B. J. MR.; PUNDERSON, J. F. MR.; RAPS, S. P. MS.; REEVES, C. R. MR.; REIST, J. BGEN; ROBERTS, T. MS.; RODRIGUEZ, RDML; ROLLOW, T. A. MR.; ROSENTHAL, R. J. MR.; RYZEWIC, W. H. MR.; SANDEL, E. A. MS.; SANDERS, D. K. MR.; and

SCHAEFER, J. C. MR.; SCHREGARDUS, D. R. MR.; SCHUETTE, L. DR; SCOVEL, G. A. MR.; SEE, V. RDML; SHANNON, W. RDML; SHARP, B. A. MR.; SHEPHARD, M. R. MS.; SIEL JR., C. R. MR.; SKINNER, W. RDML; SMERCHANSKY, J. H. MR.; SMITH, R. F. MR.; SMITH, R. M. MR.; SOLHAN, G. W. MR.; SOMOROFF, A. R. DR.; SORENSON, D. CAPT; SPANN, L. H. MR.; STACKLEY, S. MR.; STEFFEE, D. P. MR.; STEWART, P. CAPT; STEWART, V. R. BGEN; STILLER, A. F. MS.; SUMMERALL, W. MR.; TAMBURRINO, P. M. MR.; TESCH, T. G. MR.; THACKRAH, J. MR.; THOMSEN, J. E.; TIMME, W. G. RDML; TOWNSEND, D. K. MS.; VOETSCH, S. S. RDML; WALLS, V. J. MR.; WARD, J. D. MR.; WEDDEL, D. W. MR.; WEYMAN, A. S. MR.; WHITTEMORE, A. MS.; WHITTMANN, J. MR.; WIERINGA, J. A. RDML; WILLIAMS, W. LTGEN; and WOOD, B. H. MR.

FOR FURTHER INFORMATION CONTACT: Ms. LaToya Bedgood, Office of Civilian Human Resources, telephone 202-685-6659.

Dated: December 11, 2009.
A.M. Vallandingham,
Lieutenant Commander, Judge Advocate General's Corps, U.S. Navy, Federal Register Liaison Officer.

[FR Doc. E9-30204 Filed 12-17-09; 8:45 am]

BILLING CODE 3810-FF-P